COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete product(s) and service(s) to the Procurement List that were furnished by nonprofit agencies employing persons who are blind or have other severe disabilities.

DATES: Comments must be received on or before: April 07, 2024.

ADDRESSES: Committee for Purchase From People Who Are Blind or Severely Disabled, 355 E Street SW, Suite 325, Washington, DC 20024.

FOR FURTHER INFORMATION CONTACT: For further information or to submit comments contact: Michael R. Jurkowski, Telephone: (703) 785-6404 or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following product(s) and service(s) are proposed for deletion from the Procurement List:

Product(s)

NSN(s)—Product Name(s):

7350-01-574-8714—Cup, Paper, Biobased, Biodegradable, Hot, Tall Style, White, 8 oz, with Handle

7350-01-574-8735—Cup, Paper, Biobased, Biodegradable, Cold, Tall Style, White, 16 oz

7350-01-574-8736—Cup, Paper, Biobased, Biodegradable, Hot, Tall Style, White, 16 oz

7350-01-574-8730—Cup, Paper, Biobased, Biodegradable, Hot and Cold, Tall Style, White, 6 oz

7350-01-574-8732—Cup, Paper, Biobased, Biodegradable, Cold, Tall Style, White, 9 oz

7350-01-574-8733—Cup, Paper, Biobased, Biodegradable, Cold, Tall Style, White, 12 oz

7350-01-574-8734—Cup, Paper, Biobased, Biodegradable, Hot, Tall Style, White, 12 oz

7350-01-574-8737—Cup, Paper, Biobased, Biodegradable, Hot, Tall Style, White, 8 oz

7350-01-574-8717—Cup, Paper, Biobased, Biodegradable, Hot, Squat Style, White, 12 oz

7350-01-645-7874—Cup, Disposable, Paper, BioBased, Cold Beverage, White, 21 oz.

Authorized Source of Supply: The Lighthouse for the Blind in New Orleans, Inc., New Orleans, LA

Contracting Activity: GSA/FSS GREATER SOUTHWEST ACQUISITI, FORT WORTH, TX

Service(s)

Service Type: Switchboard Operation

Mandatory for: Greater Los Angeles Health Care System: Los Angeles Ambulatory Care Center, Los Angeles, CA

Mandatory for: Greater Los Angeles Health Care System: Sepulveda Ambulatory Care Center

Mandatory for: Greater Los Angeles Health Care System: VA Medical Center, West Los Angeles

Authorized Source of Supply: Lighthouse for the Blind of Houston, Houston, TX

Contracting Activity: VETERANS AFFAIRS, DEPARTMENT OF, NAC

Service Type: Supply Room Support Services

Mandatory for: DCMA, DCMA Headquarters, 3901 A Ave, Fort Gregg-Adams, VA

Authorized Source of Supply: Virginia Industries for the Blind, Charlottesville, VA

Contracting Activity: DEFENSE CONTRACT MANAGEMENT AGENCY (DCMA), DEFENSE CONTRACT MANAGMENT OFFICE

Michael R. Jurkowski,
Director, Business Operations.

[FR Doc. 2024-04960 Filed 3-7-24; 8:45 am]

BILLING CODE 6353-01-P